ENVIRONMENTAL PROTECTION AGENCY

[FRL-7579-1]

Industrial Pollution Control Superfund Site, Jackson, MS; Notice of Proposed Settlement

AGENCY: Environmental Protection Agency.

SUMMARY: The United States Environmental Protection Agency is proposing to enter into a settlement with the settling parties for recovery of past response costs pursuant to section 122(h)(1) of the Comprehensive Environmental Response, Compensation, and Liability Act(CERCLA), 42 U.S.C. 9622(h)(1) concerning the Industrial Pollution Control Superfund Site located in Jackson, Hinds County, Mississippi. EPA will consider public comments on the proposed settlement until November 26, 2003. EPA may withdraw from or modify the proposed settlement should such comments disclose facts or considerations which indicate the proposed settlement is inappropriate, improper or inadequate.

Copies of the proposed settlement are available from: Ms. Paula V. Batchelor, U.S. EPA, Region 4, Waste Management Division, 61 Forsyth Street, SW., Atlanta, Georgia 30303, (404) 562-8887.

Written comments may be submitted to Ms. Batchelor within 30 calendar days of the date of the publication.

Dated: October 9, 2003.
Ray Strickland,
Acting Chief, Superfund Enforcement & Information Management Branch, Waste Management Division.

[FR Doc. 03-27032 Filed 10-24-03; 8:45 am]

BILLING CODE 6560-50-P